DEPARTMENT OF JUSTICE

Antitrust Division

Notice Pursuant to the National Cooperative Research and Production Act of 1993—Ethernet in the First Mile Alliance

Notice is hereby given that, on September 3, 2002, pursuant to section 6(a) of the National Cooperative Research and Production Act of 1993, 15 U.S.C. 4301 et seq. (“the Act”), Ethernet in the First Mile Alliance (“EFMA”) has filed written notifications simultaneously with the Attorney General and the Federal Trade Commission disclosing changes in its membership status. The notifications were filed for the purpose of extending the Act's provisions limiting the recovery of antitrust plaintiffs to actual damages under specified circumstances. Specifically, Analog Devices, Norwood, MA; Broadcom, Irvine, CA; Harmonic, Inc., Sunnyvale, CA; National Semiconductor, Santa Clara, CA; and Panasonic Semiconductor Dev. Co., San Jose, CA have been added as parties to this venture.

No other changes have been made in either the membership or planned activity of the group research project. Membership in this group research project remains open, and EFMA intends to file additional written notifications disclosing all changes in membership.

On January 16, 2002, EFMA filed its original notification pursuant to section 6(a) of the Act. The Department of Justice published a notice in the Federal Register pursuant to Section 6(b) of the Act on March 8, 2002 (67 FR 10760).

The last notification was filed with the Department on April 17, 2002. A notice was published in the Federal Register pursuant to section 6(b) of the Act on June 18, 2002 (67 FR 41482).

Constance K. Robinson,
Director of Operations, Antitrust Division.

[FR Doc. 02-27221 Filed 10-24-02; 8:45 am]

BILLING CODE 4410-11-M